DEPARTMENT OF THE INTERIOR

Fish and Wildlife Service

50 CFR Part 17

Endangered and Threatened Wildlife and Plants; 90-Day and 12-Month Findings for a Petition To List the Beluga Sturgeon (Huso huso) as Endangered Throughout Its Range

AGENCY: Fish and Wildlife Service, Interior.

ACTION: Notice of 90-day and 12-month petition findings.

SUMMARY: We, the U.S. Fish and Wildlife Service (Service), announce the 90-day and 12-month findings for a petition to list the beluga sturgeon (Huso huso) under the Endangered Species Act of 1973, as amended. We find that the petition presents substantial information indicating that listing this species may be warranted. After further review of all available scientific and commercial information, we also find that listing this species is warranted.

DATES: The findings announced in this document were made on May 13, 2002. Comments and information must be submitted by August 19, 2002.

ADDRESSES: Data, information, comments, or questions concerning this petition should be submitted to the Chief, Division of Scientific Authority; Mail Stop ARLSQ 750; U.S. Fish and Wildlife Service; Washington, DC 20240 (fax number: 703-358-2276; E-mail address: FW9 Scientific Authority@fws.gov). The petition finding, supporting data, and comments are available for public inspection, by appointment, from 8 a.m to 4 p.m., Monday through Friday, at Room 750, 4401 North Fairfax Drive, Arlington, Virginia.

FOR FURTHER INFORMATION CONTACT: Mr. Robert R. Gabel, Chief, Division of Scientific Authority, at the above address (telephone number: 703-358-1708; fax number: 703-358-2276; E-mail address: FW9 Scientific Authority@fws.gov).

SUPPLEMENTARY INFORMATION:

Background

Section 4(b)(3)(A) of the Endangered Species Act (Act) of 1973, as amended (16 U.S.C. 1531 et seq.), requires that the Service make a finding on whether a petition to list, delist, or reclassify a species presents substantial scientific or commercial information demonstrating that the requested action may be warranted. This finding is to be based on all information available to us at the time the finding is made. To the maximum extent practicable, this finding is to be made within 90 days of the date the petition was received, and the finding is to be published promptly in the Federal Register. If the finding is that substantial information was presented, Section 4(b)(3)(A) of the Act requires us to promptly commence a review of the status of the species. We now announce a 90-day finding on a recently received petition.

Section 4(b)(3)(B) of the Act also requires that, for any petition to revise the Lists of Endangered and Threatened Wildlife and Plants that contains substantial scientific and commercial information, the Service make a finding within 12 months of the date of the receipt of the petition on whether the petitioned action is (a) not warranted, (b) warranted, or (c) warranted but precluded from immediate proposal by other pending proposals of higher priority. Section 4(b)(3)(C) requires that petitions for which the requested action is found to be warranted but precluded should be treated as though resubmitted on the date of such finding (i.e., requiring a subsequent finding to be made within 12 months). Such 12-month findings are to be published promptly in the Federal Register.

On December 18, 2000, the Service received a petition dated December 4, 2000, from the Wildlife Conservation Society (Ellen Pikitch, Ph.D., and Liz Lauck), the Natural Resources Defense Council (Lisa Speer), and Sea Web (Vicki Spruill and Susan Boa) to list the beluga sturgeon (Huso huso) as endangered throughout its entire range. A 90-day finding is being announced concurrently with the Service's 12-month finding in this document. The 90-day finding is that the petition presented substantial information indicating that the requested action may be warranted. The Service has reviewed the petition, the literature cited in the petition, and other available literature and information. On the basis of the best scientific and commercial information available, the 12-month finding is that the petitioned action is warranted.

The beluga sturgeon is a member of the genus Huso, family Acipenseridae, order Acipenseriformes, class Osteichthyes, phylum Chordata, and kingdom Animalia (Pirogovskii et al, 1989). Huso huso historically inhabited the waters of the Caspian, Black, Azov, and Adriatic Seas, as well as rivers within their watersheds (Bacalbasa-Dobrovici, 1997a). The Adriatic Sea population is now considered extirpated. The last record of a wild-caught specimen in the Sea of Azov occurred in the mid-1980s (TRAFFIC/Europe, 1999).

The life-history characteristics of beluga sturgeon make them particularly vulnerable to depletion. This species is long-lived and slow to mature. Reproductive maturity is reached somewhere between 11 and17 years (Khodorevskaya et al., 1997). Males have been found to spawn only every 4-7 years, whereas females may only reproduce every 4-8 years (Raspopov, 1993). Adult females may produce up to 12% of their body weight in roe (DeMeulenaer and Raymakers, 1996). Beluga sturgeon is an anadromous species, spending most of its life in salt water, returning to breed in the freshwater reaches of rivers (Bemis and Kynard, 1997). Sturgeons generally are considered fairly easy to harvest, as a result of predictable migration patterns and feeding habits, therefore adding to their vulnerability.

Currently, population estimates for Caspian Sea and Black Sea beluga sturgeon are not available (TRAFFIC/Europe, 1999). However, based on Russian fisheries reports, it is clear that the total population has declined drastically over the past 30 years and continues to decline at an alarming rate. During the early 1970s, an estimated 25,000 Caspian Sea beluga sturgeon spawned in the Volga River. However, by the early 1990s this estimate had dropped to 7,000 spawning fish (Khodorevskaya et al., 2000). At the present time, the Caspian Sea population is believed to be so depleted that natural reproduction in the wild may be insufficient to sustain the species (Khodorevskaya et al., 1997). Even hatchery production to augment this stock may no longer be a viable alternative due to the lack of available funding to continue artificial propagation programs and maintain an aging hatchery infrastructure in range countries. Additionally, the number of female beluga sturgeon taken in the Volga River delta was considered insufficient to even support artificial propagation efforts (Birstein et al., 1997). Russian fisheries officials recently observed that there were few, if any, large spawning-age females available to provide hatchery broodstock (TRAFFIC/Europe, 1999).

The population structure of beluga sturgeon in the Caspian Sea has shifted during the last 30 years, adding to concerns regarding declines in abundance. The relative percentage of older, spawning-age fish has dropped from 16.9 percent during 1966-1970 to 3.7 percent in 1991-1995 (Khodorevskaya et al., 2000). The Volga River population is believed to be 96.3 percent hatchery reared, contributed through past practices of replacing harvested older fish with hatchery-produced fish (Khodorevskaya et al., 1997).

Beluga sturgeon have been commercially harvested in the Black Sea for more than 2,000 years (Bacalbasa-Dobrovici, 1997b). By the mid-19th Century, beluga sturgeon harvest in the mid and upper reaches of the Danube River declined precipitously; only 16 individuals were taken from 1857 to 1957 (Hensel and Holcik, 1997). Construction of the Iron Gates I (Djerdap I) and Iron Gates II (Djerdap II) dams late in the 20th Century further stressed the mid- and upper-river remnant populations. By 1835, the lower-river population was in decline. By the 1960s, harvest ebbed to 220 tons per year and dwindled to an average annual harvest of 12.7 tons in 1994 (Bacalbasa-Dobrovici, 1997b). Currently, beluga sturgeon are considered vulnerable in the lower Danube River, critically endangered in the middle reaches, and extirpated from the upper reaches (Hensel and Holcik, 1997).

Loss of centralized control after the dissolution of the Soviet Union in 1992, dam construction, and economic development of emerging former Soviet nations are contributing factors that have adversely modified or destroyed beluga sturgeon habitat in many areas. These factors will continue to threaten, modify, or destroy habitat over the entire beluga sturgeon range in the near future. However, the international demand for caviar is the most serious threat to the continued existence of this species. The decline of beluga sturgeon populations may be principally attributed to over-utilization to meet this demand, due to a combination of legal and illegal harvest of the species.

All sturgeon are killed to collect their roe. Even the males are destroyed, as it is impossible to differentiate between the sexes. Seven kilograms of caviar are retrieved for each 100 kilograms of total beluga sturgeon harvested (Doroshov and Binkowski, 1985, cited in Williot and Bourguignon, 1991). The caviar market is highly lucrative, involving a product that is in constant demand, is easily poached, and generates maximum prices, and is packaged in small containers that are easily smuggled. Previously, there was a state monopoly in the former Soviet Union that was tightly restricted through the institution of specific harvest regulations and controlled hatchery programs.

The loss of centralized control has resulted in rapidly escalating harvest (legal and illegal combined), a lack of effective enforcement measures, and the release of insufficient hatchery-reared fish to replace those taken in the legal fishery. Prior to the political upheaval in the region, open-sea fishing for sturgeon was prohibited. However, since the mid-1990s, the open-sea fishery has been exploited, resulting in the take of young and immature stocks, effectively destroying future stock development. Bycatch of immature and adult beluga sturgeon are common in other regional fisheries, another factor contributing to the decline of the species (TRAFFIC/Europe, 1999). In 1970, the Caspian Sea beluga sturgeon harvest was estimated at 2,800 tons, yet by 1994, less than 300 tons were legally taken (Khodorevskaya et al., 1997).

With the rapid decrease in legal harvest, poaching has become essentially uncontrollable. Reports of organized, large-scale poaching rings are common in all beluga sturgeon range countries. The level of poaching in the Caspian Sea and Volga River is estimated to be 6-10 times greater than the legal harvest, and it is believed that 80-85 percent of the legal catch remains unreported (DeMeulenaer and Raymakers, 1996). Prior to the 1998 listing of all previously unlisted Acipenseriformes in Appendix II of the Convention on International Trade in Endangered Species of Wild Fauna and Flora (CITES), the Service's Office of Law Enforcement estimated that more than 50 percent of the global caviar trade was illegal (USFWS, 1998). This activity is in violation of CITES, as well as the laws and regulations in effect in the beluga sturgeon range countries. The U.S. Department of Justice has recently prosecuted significant caviar trafficking cases, including cases where individuals were indicted for paying off-duty airline employees to transport suitcases packed with caviar into the United States. In the Black Sea region, Turkey and Georgia are among the countries that continue to report illegal bycatch and fishing in their waters. Despite a CITES Appendix-II listing, and some protection by domestic legislation at the national level in the beluga sturgeon range countries, existing regulatory mechanisms have been inadequate to prevent poaching of beluga sturgeon or the international smuggling of processed caviar. Finally, most beluga sturgeon range states lack the funding, experience, personnel, and equipment to adequately prevent sturgeon poaching and other threats to the species.

We find that the petition presents substantial information to show that the requested action may be warranted. Specifically, the information provided by the petitioners indicates that the total population of beluga sturgeon has declined precipitously over the last three decades, and that this decline has resulted primarily from over-utilization for commercial purposes, present and continued destruction and modification of its habitat or range, and the inadequacy of existing regulatory mechanisms.

Section 4(b)(3)(B) of the Act requires that the Service make a finding within 12 months of receipt of the petition as to whether the listing of Huso huso as threatened or endangered is warranted. The Service has reviewed the petition, the literature cited in the petition, and other available literature and information. On the basis of the best scientific and commercial information available, the Service's 12-month finding is that the petition is warranted and that sufficient information is available to support a proposed rule to classify the species as endangered or threatened.

Export quotas for sturgeons of the Caspian Sea, including the beluga sturgeon, have been established for the 2002 harvest season by the countries bordering the Caspian Sea. These quotas were approved by the CITES Secretariat and reported to the Standing Committee at its 46th meeting. Data from the recently completed trawl surveys of the Caspian Sea, conducted in 2001, and analysis thereof, which formed the basis for the establishment of these quotas, were recently published on the web site of the CITES Secretariat. These data and analyses are highly pertinent to this issue and any rulemaking action to follow. We believe that, prior to publication of a proposed rule in the Federal Register to classify the beluga sturgeon as endangered or threatened, adequate time must be allowed for the Service to evaluate the methodology used for the stock assessment, the resultant data and data analysis, and the conclusions drawn from them. Therefore, after review and consideration of the 2001 Caspian Sea stock assessment information, we intend to publish a proposed rule in the Federal Register no later than June 30, 2002.

References Cited

You may request a complete list of references cited in this notice from the Division of Scientific Authority (see ADDRESSES section).

Authority

The authority for this action is the Endangered Species Act of 1973 (16 U.S.C. 1531 et seq.).

Dated: May 13, 2002.
Steve Williams,
Director.

[FR Doc. 02-15580 Filed 6-19-02; 8:45 am]

BILLING CODE 4310-55-P